ENVIRONMENTAL PROTECTION AGENCY

[EPA-HQ-OPP-2020-0052; FRL-10014-76]

Pesticide Product Registration; Receipt of Applications for New Uses (August 2020)

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before October 22, 2020.

ADDRESSES: Submit your comments, identified by the docket identification (ID) number and the File Symbol of the EPA registration Number of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at https://www.epa.gov/dockets/where-send-comments-epa-dockets.

Due to the public health concerns related to COVID-19, the EPA Docket Center (EPA/DC) and Reading Room is closed to visitors with limited exceptions. The staff continues to provide remote customer service via email, phone, and webform. For the latest status information on EPA/DC services and docket access, visit https://www.epa.gov/dockets.

FOR FURTHER INFORMATION CONTACT: Marietta Echeverria, Registration Division (7505P), main telephone number: (703) 305-7090, email address: RDFRNotices@epa.gov. The mailing address is: Office of Pesticide Programs, Environmental Protection Agency, 1200 Pennsylvania Ave. NW, Washington, DC 20460-0001. As part of the mailing address, include the contact person's name, division, and mail code.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

B. What should I consider as I Prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications.

A. Notice of Receipts—New Uses

1. EPA Registration Numbers: 62719-437, 62719-442. Docket ID number: EPA-HQ-OPP-2020-0336. Applicant: Dow AgroSciences LLC, 9330 Zionsville Road, Indianapolis, IN, 46268. Active ingredient: Methoxyfenozide. Product type: Insecticide. Proposed uses: Vegetable, leafy, group 4-16; vegetable, brassica, head and stem, group 5-16; celtuce; fennel, Florence, fresh leaves and stalk; kohlrabi; leaf petiole vegetable subgroup 22B; tropical and subtropical, palm fruit, edible peel, subgroup 23C; tropical and subtropical, small fruit, inedible peel, subgroup 24A; cottonseed subgroup 20C; French bean, edible podded; garden bean, edible podded; green bean, edible podded; scarlet runner bean, edible podded; snap bean, edible podded; kidney bean, edible podded; navy bean, edible podded; wax bean, edible podded; asparagus bean, edible podded; catjang bean, edible podded; Chinese longbean, edible podded; cowpea, edible podded; moth bean, edible podded; mung bean, edible podded; rice bean, edible podded; urd bean, edible podded; yardlong bean, edible podded; goa bean, edible podded; guar bean, edible podded; jackbean, edible podded; lablab bean, edible podded; vegetable soybean, edible podded; sword bean, edible podded; winged pea, edible podded; velvet bean, edible podded; dwarf pea, edible podded; edible podded pea, edible podded; green pea, edible podded; snap pea, edible podded; snow pea, edible podded; sugar snap pea, edible podded; grass-pea, edible podded; lentil, edible podded; pigeon pea, edible podded; chickpea, edible podded; Lima bean, succulent shelled; scarlet runner bean, succulent shelled; wax bean, succulent shelled; blackeyed pea, succulent shelled; moth bean, succulent shelled; catjang bean, succulent shelled; cowpea, succulent shelled; crowder pea, succulent shelled; southern pea, succulent shelled; Andean lupin, succulent shelled; blue lupin, succulent shelled; grain lupin, succulent shelled; sweet lupin, succulent shelled; white lupin, succulent shelled; white sweet lupin, succulent shelled; yellow lupin, succulent shelled; broad bean, succulent shelled; jackbean, succulent shelled; goa bean, succulent shelled; lablab bean, succulent shelled; vegetable soybean, succulent shelled; velvet bean, succulent shelled; chickpea, succulent shelled; English pea, succulent shelled; garden pea, succulent shelled; green pea, succulent shelled; pigeon pea, succulent shelled; lentil, succulent shelled; African yam-bean, dry seed; American potato bean, dry seed; Andean lupin bean, dry seed; blue lupin bean, dry seed; grain lupin bean, dry seed; sweet lupin bean, dry seed; white lupin bean, dry seed; white sweet lupin bean, dry seed; yellow lupin bean, dry seed; black bean, dry seed; cranberry bean, dry seed; dry bean, dry seed; field bean, dry seed; French bean, dry seed; garden bean, dry seed; great northern bean, dry seed; green bean, dry seed; kidney bean, dry seed; Lima bean, dry seed; navy bean, dry seed; pink bean, dry seed; pinto bean, dry seed; red bean, dry seed; scarlet runner bean, dry seed; tepary bean, dry seed; yellow bean, dry seed; adzuki bean, dry seed; asparagus bean, dry seed; catjang bean, dry seed; Chinese longbean, dry seed; cowpea, dry seed; crowder pea, dry seed; mung bean, dry seed; moth bean, dry seed; rice bean, dry seed; urd bean, dry seed; yardlong bean, dry seed; broad bean, dry seed; guar bean, dry seed; goa bean, dry seed; horse gram, dry seed; jackbean, dry seed; lablab bean, dry seed; morama bean, dry seed; sword bean, dry seed; winged pea, dry seed; velvet bean, seed, dry seed; vegetable soybean, dry seed; field pea, dry seed; dry pea, dry seed; green pea, dry seed; garden pea, dry seed; chickpea, dry seed; lentil, dry seed; grass-pea, dry seed; pigeon pea, dry seed; rice. Contact: RD.

Authority: 7 U.S.C. 136 et seq.

Dated: September 10, 2020.
Delores Barber,
Director, Information Technology and Resources Management Division, Office of Pesticide Programs.

[FR Doc. 2020-20884 Filed 9-21-20; 8:45 am]

BILLING CODE 6560-50-P